DEPARTMENT OF LABOR

Employment and Training Administration

[TA-W-52,640]

Bend TEC, Inc., Duluth, MN; Notice of Termination of Investigation

Pursuant to Section 221 of the Trade Act of 1974, as amended, an investigation was initiated on August 21, 2003, in response to a petition filed by an authorized State of Minnesota representative on behalf of workers at Bend Tec, Inc., Duluth, Minnesota.

The petitioner has requested that the petition be withdrawn. Consequently, the investigation has been terminated.

Signed at Washington, DC this 25th day of August 2003.
Elliott S. Kushner,
Certifying Officer, Division of Trade Adjustment Assistance.

[FR Doc. 03-24708 Filed 9-29-03; 8:45 am]

BILLING CODE 4510-30-U